DEPARTMENT OF AGRICULTURE

Forest Service

White River National Forest; Eagle County, CO; Beaver Creek Mountain Improvements

AGENCY: Forest Service, USDA.

ACTION: Notice of intent to prepare an environmental impact statement.

SUMMARY: The White River National Forest is preparing an Environmental Impact Statement (EIS) to consider and disclose the anticipated environmental effects of implementing projects from Beaver Creek Resort's 2010 Master Development Plan (MIDP). These projects are designed to enhance and sustain Beaver Creek's ability to provide a world class venue for Alpine ski events—a key goal of the MDP.

DATES: Comments concerning the scope of the analysis must be received by January 28, 2011. The draft environmental impact statement is expected to be available for public review in August 2011 and the final environmental impact statement is expected in the winter of 2011.

ADDRESSES: Send written comments to: Scott Fitzwilliams, Forest Supervisor, c/o Don Dressier, Winter Sports Administrator, White River National Forest, PO Box 190, Minturn, CO 81645; FAX (970) 945-9343 or by e-mail to: wrnf_scoping_comments@fs.fed.us. Include “Beaver Creek Mountain Improvements” in the subject line. The scoping notice and map can be reviewed/downloaded at: http://www.fs.usda.gov/whiteriver under “Land & Resources Management” and “Projects.”

FOR FURTHER INFORMATION CONTACT: Additional information related to the proposed project can be obtained from: Don Dressier, Winter Sports Administrator, Eagle/Holy Cross Ranger District, 24747 U.S. Highway 24, PO Box 190, Minturn, Colorado 81645. Mr. Dressier can be reached by phone at (970) 827-5157 or by e-mail at drdressler@fs.fed.us. Individuals who use telecommunication devices for the deaf (TDD) may call the Federal Information Relay Service (FIRS) at 1-800-877-8339 between 8 a.m. and 8 p.m., Eastern Time, Monday through Friday.

SUPPLEMENTARY INFORMATION: Purpose and Need for Action: The project primarily focuses on the actions necessary for Beaver Creek to host Alpine ski racing events. However, some elements of the Proposed Action are also designed to enable the resort to respond to on-going infrastructural and guest service needs that are not specifically related to Alpine ski racing. These projects were identified in Beaver Creek's MDP, and are proposed to address the following resort goals and objectives:

—Update mountain facilities and infrastructure in order to provide the highest quality guest experience possible;

—Update mountain facilities and infrastructure related to ski racing to continue to provide world class venues for Alpine events; and

—Update guest services across the resort to respond to the needs and demands of Beaver Creek's market.

Beaver Creek has earned the opportunity to host the upcoming 2015 World Alpine Championships. In order for Beaver Creek to continue to host international Alpine race events (including, but not limited to the 2015 World Alpine Championships) and provide the highest quality experience for the large number of attendees and spectators, a number of infrastructure projects and improvements are necessary. Beaver Creek and Vail Mountain hosted the 1989 and 1999 World Alpine Ski Championships, and Beaver Creek has maintained continued involvement in the World Cup race circuit. Currently, the only men's World Cup race venue used annually in the United States is located at Beaver Creek. Hosting the 2015 International Skiing Federation (FIS) World Alpine Ski Championships is a unique opportunity to increase the awareness and participation in the sports of skiing and snowboarding; however, the FIS requires separate venues for men's and women's Alpine events, which Beaver Creek currently does not offer.

The project's Purpose and Need falls into four general categories: Trails (Terrain and Snowmaking), Racecourse Finish Area, Red Tail Camp Restaurant, and Infrastructure.

Proposed Action: All proposed projects are within Beaver Creek's existing special use permit (SUP) boundary, which is administered by the White National Forest. The proposed action includes:

—A new women's downhill course that would be served by the Birds of Prey Express chairlift. The women's downhill course would require vegetation removal and grading, as well as replacement/installation of snowmaking infrastructure.

—A new women's giant slalom course on Grouse Mountain. The women's giant slalom course would require trail widening and upgrading existing snowmaking infrastructure.

—Trail widening and re-grading along the existing men's Birds of Prey downhill course.

—A new access trail between the Centennial and Goshawk trails that would enable event spectators to reach the middle portion of the men's and women's downhill courses. An existing utility corridor is also proposed to be widened near the Dally catwalk to improve skier/rider circulation.

—Approximately 10.5 acres of re-grading in the Red Tail Camp area (the finish area for the existing men's downhill course as well as the proposed women's downhill and giant slalom courses). This includes realigning and culverting a segment of Westfall Creek, relocating existing utility lines, and expanding the existing TV compound to accommodate current and future media needs.

—Relocating and expanding the existing Red Tail Camp facility, and increasing indoor/outdoor seating. This is within the 10.5 acres of area proposed to be re-graded.

—Installing a 24x36' storage facility west of the top terminal of the Birds of Prey Express chairlift.

—Constructing a new 150,000-gallon water tank and pump station on the edge of the Paint Brush trail.

—Installing/upgrading water and sewer lines in the Red Tail Camp vicinity.

Responsible Official: The responsible official is Scott Fitzwilliams, Forest Supervisor for the White River National Forest.

Nature of Decision to be Made: Based on the analysis that will be documented in the forthcoming EIS, the responsible official will decide whether or not to implement, in whole or in part, the proposed action or another alternative that may be developed by the Forest Service as a result of scoping.

Scoping Process: This notice of intent initiates the scoping process, which guides the development of the environmental impact statement. The Forest Service is soliciting comments from Federal, State and local agencies and other individuals or organizations that may be interested in or affected by implementation of the proposed projects. Public questions and comments regarding this proposal are an integral part of this environmental analysis process. Input provided by interested and/or affected individuals, organizations and governmental agencies will be used to identify resource issues that will be analyzed in the Draft EIS. The Forest Service will identify significant issues raised during the scoping process, and use them to formulate alternatives, prescribe mitigation measures and project design features, or analyze environmental effects.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: December 6, 2010.
Scott G. Fitzwilliams,
Forest Supervisor, WRNF.

[FR Doc. 2010-31235 Filed 12-13-10; 8:45 am]

BILLING CODE 3410-11-M